DEPARTMENT OF COMMERCE

Foreign-Trade Zones Board

[B-24-2018]

Foreign-Trade Zone (FTZ) 293—Limon, Colorado; Notification of Proposed Production Activity; Laser Galicia America LLC (Bending and Assembly of Trafo Wall); Aurora, Colorado

The Town of Limon, Colorado, grantee of FTZ 293, submitted a notification of proposed production activity to the FTZ Board on behalf of Laser Galicia America LLC (Laser Galicia), located in Aurora, Colorado. The notification conforming to the requirements of the regulations of the FTZ Board (15 CFR 400.22) was received on April 6, 2018.

The applicant indicates that it will be submitting a separate application for FTZ usage-driven designation at the Laser Galicia facility within FTZ 293. The facility is used for the bending and assembly of trafo wall. Pursuant to 15 CFR 400.14(b), FTZ activity would be limited to the specific foreign-status materials and components and specific finished products described in the submitted notification (as described below) and subsequently authorized by the FTZ Board.

Production under FTZ procedures could exempt Laser Galicia from customs duty payments on the foreign-status components used in export production. On its domestic sales, for the foreign-status materials/components noted below, Laser Galicia would be able to choose the duty rate during customs entry procedures that apply to front section trafo wall, top section trafo wall, and left section trafo wall (duty rate—3.0%). Laser Galicia would be able to avoid duty on foreign-status components which become scrap/waste. Customs duties also could possibly be deferred or reduced on foreign-status production equipment.

The components and materials sourced from abroad include: Small nut plate (galvanized steel thickness 10 mm); bracket for lubrication system—unfolded (stainless steel thickness 3 mm); frame assembly—unfolded (galvanized steel thickness 2 mm); cross plate trafo wall—unfolded (galvanized steel thickness 1.5 mm); shield for trafo component—unfolded (galvanized steel thickness 1.5 mm); structural sections of trafo wall—unfolded (galvanized steel thickness 1.5 mm); bracket angle front lock plate trafo—unfolded (galvanized steel thickness 2 mm); front section trafo wall—unfolded (galvanized steel thickness 1.5 mm); holder for cross plate—unfolded (galvanized steel thickness 1.5 mm); bracket for right trafo wall (galvanized steel thickness 2 mm); cover for actuator—unfolded (galvanized steel thickness 2 mm); cover for vibration sensor—unfolded (galvanized steel thickness 2 mm); outlet air guide—unfolded (aluminum thickness 3 mm); and, air choke plate—unfolded (aluminum thickness 3 mm) (duty rates range from 2.5% to 2.9%).

Public comment is invited from interested parties. Submissions shall be addressed to the Board's Executive Secretary at the address below. The closing period for their receipt is May 29, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Juanita Chen at juanita.chen@trade.gov or 202-482-1378.

Dated: April 11, 2018.
Andrew McGilvray,
Executive Secretary.

[FR Doc. 2018-08120 Filed 4-17-18; 8:45 am]

BILLING CODE 3510-DS-P